NUCLEAR REGULATORY COMMISSION

[Docket Nos. 50-250 and 50-251; NRC-2022-0172]

Florida Power & Light Company; Turkey Point Nuclear Generating Unit Nos. 3 and 4

AGENCY: Nuclear Regulatory Commission.

ACTION: Draft environmental impact statement; request for comment; public comment meetings; opportunity to request a hearing and to petition for leave to intervene.

SUMMARY: The U.S. Nuclear Regulatory Commission (NRC, the Commission) is issuing for public comment draft environmental impact statement (EIS) NUREG-1437, Supplement 5a, Second Renewal, “Site-Specific Environmental Impact Statement for License Renewal of Nuclear Plants Regarding Subsequent License Renewal for Turkey Point Nuclear Generating Unit Nos. 3 and 4, Draft Report for Comment.” Turkey Point Nuclear Generating Unit Nos. 3 and 4 (Turkey Point) is located in Homestead, Florida, approximately 25 miles south-southwest of Miami. Possible alternatives to the proposed action of subsequent license renewal for Turkey Point include the no-action alternative and reasonable replacement power alternatives. A new notice of opportunity to request a hearing and petition for leave to intervene—limited to contentions based on new information in the draft EIS—is also being issued.

DATES: The NRC will hold two public meetings, one in-person near Turkey Point and one through online webinar and teleconference call, on the draft EIS, including a presentation on the preliminary recommendation in the draft EIS and a transcribed public comment session. The in-person meeting will be held September 19, 2023, at 7 p.m. eastern time (ET) at the Hampton Inn & Suites, 2855 NE 9th St, Homestead, FL 33033. The virtual meeting will be held September 27, 2023, at 2 p.m. ET. Details on both meetings can be found on the NRC's Public Meeting Schedule at: https://www.nrc.gov/pmns/mtg. Members of the public are invited to submit comments by November 7, 2023. Comments received after this date will be considered if it is practical to do so, but the NRC is able to ensure consideration only for comments received on or before this date. Requests for a hearing or petitions for leave to intervene must be filed by November 7, 2023.

ADDRESSES: You may submit comments by any of the following methods; however, the NRC encourages electronic comment submission through the Federal rulemaking website:

• Federal rulemaking website: Go to https://www.regulations.gov and search for Docket ID NRC-2022-0172. Address questions about Docket IDs in Regulations.gov to Stacy Schumann; telephone: 301-415-0624; email: Stacy.Schumann@nrc.gov. For technical questions, contact the individual listed in the FOR FURTHER INFORMATION CONTACT section of this document.

• Email: Comments may be submitted to the NRC electronically using the email address TurkeyPoint34Environmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lance Rakovan, Office of Nuclear Material Safety and Safeguards, U.S. Nuclear Regulatory Commission, Washington, DC 20555-0001; telephone: 301-415-2589; email: Lance.Rakovan@nrc.gov.

SUPPLEMENTARY INFORMATION:

I. Obtaining Information and Submitting Comments

A. Obtaining Information

Please refer to Docket ID NRC-2022-0172 when contacting the NRC about the availability of information for this action. You may obtain publicly available information related to this action using any of the following methods:

• Federal Rulemaking Website: Go to https://www.regulations.gov and search for Docket ID NRC-2022-0172.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 5a, Second Renewal, “Site-Specific Environmental Impact Statement for License Renewal of Nuclear Plants Regarding Subsequent License Renewal for Turkey Point Nuclear Generating Unit Nos. 3 and 4, Draft Report for Comment,” is available in ADAMS under Accession No. ML23242A216.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the draft EIS is available for public review at the Naranja Branch Library, 14850 SW 280th Street, Homestead, Florida 33032.

B. Submitting Comments

The NRC encourages electronic comment submission through the Federal rulemaking website (https://www.regulations.gov). Please include Docket ID NRC-2022-0172 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment draft EIS NUREG-1437, Supplement 5a, Second Renewal, “Site-Specific Environmental Impact Statement for License Renewal of Nuclear Plants Regarding Subsequent License Renewal for Turkey Point Nuclear Generating Unit Nos. 3 and 4, Draft Report for Comment.” The draft EIS supplements NUREG-1437, Supplement 5, Second Renewal, “Generic Environmental Impact Statement for License Renewal of Nuclear Plants Regarding Subsequent License Renewal for Turkey Point Nuclear Generating Unit Nos. 3 and 4, Final Report” (FSEIS), issued in October 2019 (ADAMS Accession No. ML19290H346). The draft EIS includes the NRC staff's site-specific evaluation of the environmental impacts of subsequent license renewal (SLR) for Turkey Point for each of the environmental issues that were dispositioned as Category 1 issues (generic to all or a distinct subset of nuclear power plants) in the FSEIS consistent with Table B-1 in appendix B to subpart A of title 10 of the Code of Federal Regulations (10 CFR) part 51 and NUREG-1437, “Generic Environmental Impact Statement for License Renewal of Nuclear Plants,” Revision 1, Final Report. The draft EIS considers information contained in the Florida Power & Light Company (FPL) June 9, 2022, submittal, which supplemented its environmental report in support of its 2018 SLR application that was considered in the FSEIS. The draft EIS also considers whether there is significant new information that would change the NRC staff's conclusions concerning Category 2 issues (specific to individual nuclear power plants) in the FSEIS. The NRC staff prepared the draft EIS in accordance with the Commission's decisions in Commission Legal Issuance (CLI)-22-02 (ADAMS Accession No. ML22055A496) and CLI-22-03 (ADAMS Accession No. ML22055A527), both dated February 24, 2022. These decisions directed the NRC staff to modify the expiration dates of the Turkey Point subsequent renewed licenses, which were issued on December 4, 2019, to reflect the end dates of the previous renewed licenses (i.e., July 19, 2032, for Turkey Point Unit 3 and April 10, 2033, for Turkey Point Unit 4). Together, the draft EIS and the FSEIS evaluate, on a site-specific basis, all of the environmental impacts of continued operation during the SLR term for Turkey Point Unit 3 from July 19, 2032, to July 19, 2052, and for Turkey Point Unit 4 from April 10, 2033, to April 10, 2053.

Based on the draft EIS and the FSEIS, the NRC staff's preliminary recommendation is that the adverse environmental impacts of SLR for Turkey Point (i.e., the continued operation of Turkey Point for a period of 20 years beyond current expiration dates) are not so great that preserving the option of SLR for energy-planning decision-makers would be unreasonable. The NRC staff based its recommendation on FPL's environmental report, as supplemented, the NRC staff's consultations with Federal, State, Tribal, and local government agencies, the NRC staff's independent environmental review, which is documented in the draft EIS and the FSEIS, and the NRC staff's consideration of public comments.

III. Opportunity To Request a Hearing and Petition for Leave To Intervene

As directed in CLI-22-03, with the completion of the draft EIS, a new notice of opportunity to request a hearing and petition for leave to intervene—limited to contentions based on new information in the draft EIS—is being issued.

Within 60 days after the date of publication of this notice, any person (petitioner) whose interest may be affected by this action may file a request for a hearing and petition for leave to intervene (petition) with respect to the action. Petitions shall be filed in accordance with the Commission's “Agency Rules of Practice and Procedure” in 10 CFR part 2. Interested persons should consult 10 CFR 2.309. If a petition is filed, the presiding officer will rule on the petition and, if appropriate, a notice of hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

IV. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

Dated: August 31, 2023.
For the Nuclear Regulatory Commission.
John M. Moses,
Deputy Director, Division of Rulemaking, Environmental, and Financial Support, Office of Nuclear Materials Safety and Safeguards.

[FR Doc. 2023-19188 Filed 9-7-23; 8:45 am]

BILLING CODE 7590-01-P